ENVIRONMENTAL PROTECTION AGENCY

40 CFR Part 52

[EPA-R01-OAR-2022-0866; FRL-10415-01-R1]

Air Plan Approval; New Hampshire; Approval of Single Source Order

AGENCY: Environmental Protection Agency (EPA).

ACTION: Proposed rule.

SUMMARY: The Environmental Protection Agency (EPA) is proposing to approve a State Implementation Plan (SIP) revision submitted by the State of New Hampshire. This revision establishes reasonably available control technology (RACT) requirements for Fujifilm Dimatix Incorporated located in Lebanon, NH. The intended effect of this action is to propose approval of the state's order for this facility. This action is being taken under the Clean Air Act.

DATES: Written comments must be received on or before December 15, 2022.

ADDRESSES: Submit your comments, identified by Docket ID No. EPA-R01-OAR-2022-0866 at https://www.regulations.gov, or via email to kosin.michele@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Michele Kosin, Physical Scientist, Air Quality Planning Unit, Air Programs Branch (Mail Code OEP05-02), U.S. Environmental Protection Agency, Region 1, 5 Post Office Square, Suite 100, Boston, Massachusetts 02109-3912; (617) 918-1175; kosin.michele@epa.gov.

SUPPLEMENTARY INFORMATION: Throughout this document whenever “we,” “us,” or “our” is used, we mean EPA.

Table of Contents

I. Background and Purpose

II. Description and Review of Submittals

III. Proposed Action

IV. Incorporation by Reference

V. Statutory and Executive Order Reviews

I. Background and Purpose

On August 26, 2021, the New Hampshire Air Resources Division (ARD) submitted a revision to its State Implementation Plan. The revision consists of an order establishing reasonably available control technology (RACT) requirements for Fujifilm Dimatix, Inc.

II. Description and Review of Submittals

On August 26, 2021, the New Hampshire ARD submitted to EPA as a SIP revision request order RO-0006 establishing RACT requirements to limit emissions of volatile organic compounds (VOCs) for Fujifilm Dimatix, Inc. located in Lebanon, New Hampshire. Fujifilm Dimatix, Inc. requested a source specific RACT order for VOCs for an adhesive process as well as the use of emission reduction credits (ERCs) to offset the gap between future actual emissions and allowable emissions. Fujifilm Dimatix, Inc. uses adhesives that bond metal to metal substrates to produce piezoelectric ink jet print heads and printing systems. The request included a technical justification and an evaluation of capture and control device technologies that were evaluated. Fujifilm Dimatix, Inc. evaluated the feasibility of using an alternative adhesive and add-on controls but could not find a suitable alternative coating or cost-effective, technically feasible control technology. New Hampshire reviewed and concurred with the facility's request, and on July 8, 2021, issued Order No. RO-0006 to the Fujifilm Dimatix, Inc. Order No. RO-0006 includes a 12.2 tons per year cap for VOC emissions, a VOC content limit for adhesives used by the facility, requirements for how the adhesives shall be applied, work practice standards, and recordkeeping and reporting requirements. Fujifilm Dimatix, Inc. will continue to investigate alternative spray equipment technology and employ good operating practices in order to minimize air emissions. We are proposing approval of the order into the New Hampshire SIP because it is consistent with CAA requirements for VOC RACT and with New Hampshire's Env-A 1200, VOCs RACT regulation.

III. Proposed Action

EPA is proposing to approve the New Hampshire SIP revision requests as described above. The SIP revisions meet section 110(l) of the CAA because the revisions will not interfere with any applicable requirement concerning attainment and reasonable further process, or any other applicable requirement of the CAA. EPA is soliciting public comments on the issues discussed in this notice or on other relevant matters. These comments will be considered before taking final action. Interested parties may participate in the Federal rulemaking procedure by submitting written comments to this proposed rule by following the instructions listed in the ADDRESSES section of this Federal Register.

IV. Incorporation by Reference

In this rule, the EPA is proposing to include in a final EPA rule regulatory text that includes incorporation by reference. In accordance with requirements of 1 CFR 51.5, the EPA is proposing to incorporate by reference RACT Order RO-0006, dated July 8, 2021, which establishes RACT requirements for Fujifilm Dimatix, Inc. The EPA has made, and will continue to make, these documents generally available through https://www.regulations.gov and at the EPA Region 1 Office (please contact the person identified in the FOR FURTHER INFORMATION CONTACT section of this preamble for more information).

V. Statutory and Executive Order Reviews

Under the Clean Air Act, the Administrator is required to approve a SIP submission that complies with the provisions of the Act and applicable Federal regulations. See 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Ozone, Reporting and recordkeeping requirements, Volatile organic compounds.

Dated: November 7, 2022.
David Cash,
Regional Administrator, EPA Region 1.

[FR Doc. 2022-24683 Filed 11-14-22; 8:45 am]

BILLING CODE 6560-50-P